INTERNATIONAL TRADE COMMISSION

[Investigation No. 337-TA-1141]

Certain Cartridges for Electronic Nicotine Delivery Systems and Components Thereof: Institution of Investigation

AGENCY: U.S. International Trade Commission

ACTION: Notice.

SUMMARY: Notice is hereby given that a complaint was filed with the U.S. International Trade Commission on November 20, 2018, under section 337 of the Tariff Act of 1930, as amended, on behalf of Juul Labs, Inc. of San Francisco, California. The complaint alleges violations of section 337 based upon the importation into the United States, the sale for importation, and the sale within the United States after importation of certain cartridges for electronic nicotine delivery systems and components thereof by reason of infringement of certain claims of U.S. Patent No. 10,058,129 (“the '129 patent”); U.S. Patent No. 10,104,915 (“the '915 patent”); U.S. Patent No. 10,111,470 (“the '470 patent”); U.S. Patent No. 10,117,465 (“the '465 patent”); and U.S. Patent No. 10,117,466 (“the '466 patent”). The complaint further alleges that an industry in the United States exists as required by the applicable Federal Statute.

The complainant requests that the Commission institute an investigation and, after the investigation, issue a limited exclusion order and a cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2018).

Scope of Investigation: Having considered the complaint, the U.S. International Trade Commission, on December 19, 2018, Ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-3, 5-8, 12, 13, 16-20, and 22 of the '129 patent; claims 10, 15, 17, and 29-32 of the '915; claims 1-4, 7, 8, 10, and 11 of the '470 patent; claims 1-7 and 9-20 of the '465 patent; and 1, 4-8, 10, 12, 14, and 16-23 of the '466 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “cartridges for nicotine vaporizers, and components thereof, such as the mouthpiece, storage compartment, and heater;”

(3) Pursuant to Commission Rule 210.50(b)(l), 19 CFR 210.50(b)(1), the presiding administrative law judge shall take evidence or other information and hear arguments from the parties or other interested persons with respect to the public interest in this investigation, as appropriate, and provide the Commission with findings of fact and a recommended determination on this issue, which shall be limited to the statutory public interest factors set forth in 19 U.S.C. 1337(d)(1), (f)(1), (g)(1);

(4) For the purpose of the investigation so instituted, the following are hereby named as parties upon which this notice of investigation shall be served:

(a) The complainant is: Juul Labs, Inc., 560 20th Street, San Francisco, CA 94107.

(b) The respondents are the following entities alleged to be in violation of section 337, and are the parties upon which the complaint is to be served:

DripTip Vapes LLC, 151 N Nob Hill Rd. #115, Plantation, FL 33324.

The Electric Tobacconist, LLC, 3235 Prairie Avenue, Boulder, CO 80301.

Fuma Vapor, Inc., 605 S Westgate Rd., Des Plaines, IL 60016.

Lan & Mike International Trading, Inc., 20435 Gramercy Place, Suite 101, Torrance, CA 90501.

Lizard Juice, LLC, 8565 Somerset Drive, Unit A, Largo, FL 33773.

Maduro Distributors, Inc., 245 Roselawn Ave E #24, Maplewood, MN 55117.

MistHub, LLC, 1674 Barclay Blvd., Buffalo Grove, IL 60089.

ParallelDirect LLC, 103 Schelter Rd, #20, Lincolnshire, IL 60069.

Saddam Aburoumi, 193 Homestead Street, Unit D3, Manchester, CT 06042.

Sarvasva LLC, D/b/a One Stop Food Mart, 32 Church Road, Maple Shade, NJ 08052.

Shenzhen Haka Flavor Technology Co., Ltd., 4F, Building B, Anjia Industrial Park, Gonghe Industrial Rd., Shajing Town, Bao'an District, Shenzhen City, Guangdong, China 518104.

Shenzhen OCIGA Technology Co., Ltd., 4F, Building B, Anjia Industrial Park, Gonghe Industrial Rd, Shajing Town, Bao'an District, Shenzhen City, Guangdong Province, China 518104.

Shenzhen OVNS Technology Co., Ltd., 6F, North Side Of Xinlong Tech Park, No. 2, Dawangshan Industrial 1st Road, Shajing Town, Bao'an District, Shenzhen, Guangdong, China 518101.

Shenzhen Yibo Technology Co., Ltd., E District 4F, 5 Building, Wen Ge Industrial Zone, Heshuikou, Gongming St., Guangming New District, Shenzhen City, Guangdong Province, China 518106.

Twist Vapor Franchising, LLC, 14937 Bruce B Downs Boulevard, Tampa, FL 33613.

United Wholesale LLC, 73 Linden Street, Glastonbury, CT 06033.

Vape4U LLC, 8926 Benson Ave. Ste E, Montclair, CA 91763.

Vaperz LLC, 19818 S Harlem Ave., Frankfort, IL 60423.

Vaportronix, LLC, 2941 NE 185th Street, Aventura, FL 33180.

Vapor 4 Life Holdings, Inc., 4080 Commercial Ave., Suite A, Northbrook, IL 60062.

The ZFO, 42 Nichols St., Suite 14, Spencerport, NY 14559.

Ziip Lab Co., Ltd., E District 4F, 5 Building, Wen Ge Industrial Zone, Heshuikou, Gongming St., Guangming New District, Shenzhen City, Guangdong Province, China 518106.

Ziip Lab S.A., Ave. Golero, 911 Office 27, Punta del Este—Maldonado, Uruguay, 20100.

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 20, 2018.
Lisa Barton,
Secretary to the Commission.

[FR Doc. 2018-28068 Filed 12-26-18; 8:45 am]

BILLING CODE 7020-02-P